DEPARTMENT OF HEALTH AND HUMAN SERVICES

Centers for Disease Control and Prevention

Disease, Disability, and Injury Prevention and Control Special Emphasis Panel (SEP)—DP21-003, Reducing Inequities in Cancer Outcomes Through Community-Based Interventions on Social Determinants of Health; Amended Notice of Meeting

Notice is hereby given of a change in the meeting of the Disease, Disability, and Injury Prevention and Control Special Emphasis Panel (SEP)—DP21-003, Reducing Inequities in Cancer Outcomes through Community-Based Interventions on Social Determinants of Health; April 6-8, 2021, 10 a.m.-6 p.m., EST, in the original FRN.

The teleconference meeting was published in the Federal Register on January 14, 2021, Volume 86, Number 9, pages 3157-3158.

The meeting date, time, and contact information should read as follows:

Date: April 6, 2021

Time: 10 a.m.-6 p.m., EDT

The meeting is closed to the public.

FOR FURTHER INFORMATION CONTACT: Jaya Raman, Ph.D., Scientific Review Officer, National Center for Chronic Disease Prevention and Health Promotion, CDC, 4770 Buford Highway NE, Mailstop S107-8, Atlanta, Georgia 30341, telephone (770) 488-6511; JRaman@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-06008 Filed 3-23-21; 8:45 am]

BILLING CODE 4163-18-P